DEPARTMENT OF TRANSPORTATION

Federal Highway Administration

Notice of Availability of the Revised Record of Decision for the Mountain View Corridor Project in Utah and Final Federal Agency Actions

AGENCY: Utah Department of Transportation (UDOT), Federal Highway Administration (FHWA), Department of Transportation.

ACTION: Notice of availability and notice of limitations on claims for judicial review of actions by UDOT and other Federal agencies.

SUMMARY: The FHWA, on behalf of UDOT, is issuing this notice to announce the availability of the Revised Record of Decision (ROD) for the Mountain View Corridor Project in Salt Lake and Utah counties, Utah. In addition, this notice is being issued to announce actions taken by UDOT that are final Federal agency actions related to the project referenced above. Those actions grant licenses, permits and/or approvals for the project. The Revised ROD provides details on the Selected Alternative for the proposed improvements.

DATES: This decision became operative on January 15, 2020. By this notice, FHWA, on behalf of UDOT, is advising the public of final agency actions subject to 23 U.S.C. 139(l)(1). A claim seeking judicial review of the Federal agency actions on the highway project will be barred unless the claim is filed on or before September 28, 2020. If the Federal law that authorizes judicial review of a claim provides a time period of less than 150 days for filing such claim, then that shorter time period still applies.

FOR FURTHER INFORMATION CONTACT: Elisa Albury, Environmental Program Manager, UDOT Environmental Services, PO Box 143600, Salt Lake City, UT 84114; (801) 834-5284; email: ealbury@utah.gov. UDOT's normal business hours are 8 a.m. to 5 p.m. (Mountain Time Zone), Monday through Friday, except State and Federal holidays.

SUPPLEMENTARY INFORMATION: The environmental review, consultation, and other actions required by applicable Federal environmental laws for this action are being, or have been, carried out by UDOT pursuant to 23 U.S.C. 327 and a Memorandum of Understanding (MOU) dated January 17, 2017, and executed by FHWA and UDOT. Under the MOU, UDOT is responsible for conducting any additional environmental review that is required for projects that were approved by FHWA prior to execution of the MOU. The Revised ROD was processed in accordance with the MOU, and UDOT is the agency responsible for approving the Revised ROD. Actions taken by UDOT on FHWA's behalf pursuant to 23 U.S.C. 327 and the MOU constitute Federal agency actions for purposes of Federal law. Notice is hereby given that UDOT has taken final agency actions subject to 23 U.S.C. 139(l)(1) by issuing licenses, permits, and/or approvals for the Mountain View Corridor Project in the State of Utah.

A Final Environmental Impact Statement (EIS) and Section 4(f) Evaluation for the Mountain View Corridor Project was completed in September 2008 and approved through the issuance of a ROD on November 17, 2008, by the FHWA. The overall Selected Alternative in the 2008 ROD included both a roadway alternative (the 5800 West Freeway Alternative) and a transit alternative (the 5600 West Transit Alternative with Dedicated Right-of-Way Option). Since the original ROD was issued, this overall Selected Alternative has been refined and is referred to as the Refined Selected Alternative.

The 2008 ROD committed to a phased implementation approach for Selected Alternative. The roadway component and the transit component of the Selected Alternative each consisted of three phases. Under the phased implementation approach as defined in the 2008 ROD, UDOT committed that it would not proceed with Phase 2 of the roadway component (except in a few defined areas) until Phase 1 of the transit component was complete and in revenue operation. As described in the Final EIS and the 2008 ROD, the transit system would have started as Bus Rapid Transit (BRT) in Phase 1 and would have been converted to rail transit in Phase 3.

The Refined Selected Alternative modifies Phase 1 of the transit component of the 2008 Selected Alternative (5600 West Transit Alternative with Dedicated Right-of-Way Option). Instead of BRT service, the Phase 1 transit service would include construction of Express Bus transit service over a longer (29-mile) corridor from the Old Bingham Highway TRAX station following 5600 West to downtown Salt Lake City including service to the Salt Lake City International Airport. The service would include operational improvements as well as enhanced stops with associated park-and-ride lots. UDOT would acquire the necessary right-of-way for the service as required for Phase 1 transit to be in revenue operation.

UDOT prepared an EIS Re-evaluation for the Refined Selected Alternative's proposed changes to the Phase 1 transit elements of the 2008 ROD's Selected Alternative. A 30-day public review and comment period on the EIS Re-evaluation was provided from April 17 to May 16, 2019. During the comment period, UDOT received 26 comments. The comments included support for the changes to Phase 1 transit, opposition to transit projects, requests for additional stops on the Phase 1 transit's Express Bus, requests for additional transit improvements or other transit projects, and questions about the Phase 1 transit's Express Bus. The decision to approve the Refined Selected Alternative for the MVC Project was based on UDOT's review of the entire record including the 2008 MVC Final EIS and the 2019 EIS Re-evaluation as well as technical reports, correspondence, and other information developed as part of the environmental review process for the project.

The actions by UDOT, and the laws under which such actions were taken, are described in the EIS Re-evaluation approved on August 26, 2019, the Revised ROD approved on January 15, 2020, and other documents in the UDOT project records. The EIS Re-evaluation and Revised ROD are available for review by contacting UDOT at the address provided above. In addition, these documents can be viewed and downloaded from the project website at http://www.udot.utah.gov/mountainview. This notice applies to the EIS Re-evaluation, the Revised ROD, and all other UDOT and federal agency decisions and other actions with respect to the project as of the issuance date of this notice and all laws under which such actions were taken, including but not limited to the following laws (including their implementing regulations):

1. General: National Environmental Policy Act [42 U.S.C. 4321-4351]; Federal-Aid Highway Act [23 U.S.C. 109 and 23 U.S.C. 128]; MAP-21, the Moving Ahead for Progress in the 21st Century Act [Pub. L. 112-141].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Fish and Wildlife Coordination Act [16 U.S.C. 661-667(d)]; Migratory Bird Treaty Act [16 U.S.C. 703-712]; The Bald and Golden Eagle Protection Act [16 U.S.C. 668].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Barrier Resources Act [16 U.S.C. 3501-3510]; Coastal Zone Management Act [16 U.S.C. 1451-1465]; Land and Water Conservation Fund (LWCF) [16 U.S.C. 4601-4604]; Safe Drinking Water Act (SDWA) [42 U.S.C. 300(f) -300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(M, 133(b)(11)]; Flood Disaster Protection Act [42 U.S.C. 4001-4128].

8. Hazardous Materials: Comprehensive Environmental Response, Compensation, and Liability Act [42 U.S.C. 9601-9675]; Superfund Amendments and Reauthorization Act of 1986; Resource Conservation and Recovery Act [42 U.S.C. 6901-6992(k)].

9. Noise: Federal-Aid Highway Act of 1970, Public Law 91-605 [84 Stat. 1713]; [23 U.S.C. 109(h) & (i)].

10. Executive Orders: E.O. 11990 Protection of Wetlands; E.O. 11988 Floodplain Management; E.O. 12898, Federal Actions to Address Environmental Justice in Minority Populations and Low-Income Populations; E.O. 11593 Protection and Enhancement of Cultural Resources; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139 (l)(1).

Dated: April 24, 2020.
Ivan Marrero,
Division Administrator, Federal Highway Administration, Salt Lake City, Utah.

[FR Doc. 2020-09282 Filed 4-30-20; 8:45 am]

BILLING CODE 4910-RY-P